DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301) 443-1129.

The following request has been submitted to the Office of Management and Budget for review under the Paperwork Reduction Act of 1995:

Proposed Project: Health Care Infrastructure Forms for Funding Opportunities—NEW

HRSA Safety Net programs, including the Consolidated Health Center (CHC) Program and the Healthy Communities Access Program (HCAP), are administered by HRSA's Bureau of Primary Health Care (BPHC). HRSA/BPHC is committed to assisting communities in the development of integrated and comprehensive health care delivery systems which will improve the effectiveness, efficiency, and coordination of services for uninsured and underinsured individuals, resulting in higher quality care for these populations at less cost.

Grant funding opportunities are provided to health centers to support: The integration and coordination of primary, hospital, and specialty care; the enhancement of the network and the health centers ability to compete in the marketplace; and the strategic alignment of health center information systems and technology infrastructure to integrate uniform clinical information with business systems.

BPHC will assist in achieving this new health center infrastructure through various funding opportunities. Application forms are used by new and current health centers through (1) Health Center Network Planning and Development which includes the Integrated Service Development Initiative (ISDI), Shared Integrated Management Information System (SIMIS), Integrated Information and Communication Technology (ICT), (2) Healthy Communities Access Program (HCAP), and (3) Operational Health Center Networks (OHCN) which include the ISDI and Pharmacy Networks.

The burden estimate of for this activity is as follows:

Type of application | Number of respondents | Hours per response | Total burden hours
Healthy Communities Access Program | 242 | 45 | 10,890
Health Center Network Planning and Development:
Integrated Service Development Initiative | 7 | 45 | 315
Shared Integrated Management Information System | 7 | 45 | 315
Integrated Information and Communication Technology | 9 | 45 | 405
Pharmacy Networks | 12 | 45 | 540
Operational Health Center Networks:
Pharmacy Networks | 20 | 45 | 900
Integrated Service Development Initiative | 17 | 45 | 765
Total | 314 |  | 14,130

Written comments and recommendations concerning the proposed information collection should be sent within 30 days of this notice to: Desk Officer, Health Resources and Services Administration, Human Resources and Housing Branch, Office of Management and Budget, New Executive Office Building, Room 10235, Washington, DC 20503.

Dated: April 23, 2004.
Tina M. Cheatham,
Director, Division of Policy Review and Coordination.

[FR Doc. 04-9802 Filed 4-29-04; 8:45 am]

BILLING CODE 4165-15-P